DEPARTMENT OF HOMELAND SECURITY

Federal Emergency Management Agency

44 CFR Part 67

[Docket No. FEMA-P-7693]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆Elevation in feet (NAVD): Existing | ◆Elevation in feet (NAVD): Modified | Communities affected
Artichoke Creek:
At County Highway 27 | None | ◆1,085 | Big Stone County (Unincorporated Areas).
Approximately 6,800 feet upstream of County Highway 27 | None | ◆1,085
Big Stone Lake:
Approximately 1,056 feet upstream of U.S. Highway 12 | ◆971 | ◆972 | Big Stone County (Unincorporated Areas). City of Ortonville.
At the confluence of the Little Minnesota River | ◆971 | ◆972
County Ditch No. 2:
At the confluence with Five Mile Creek | None | ◆1,002 | Big Stone County (Unincorporated Areas).
Approximately 3,190 feet upstream of County Highway 81 | None | ◆1,115
County Ditch No. 4:
At the confluence with the Minnesota River Tailwaters | ◆949 | ◆950 | Big Stone County (Unincorporated Areas). City of Odessa.
Approximately 1,170 feet upstream of County Highway 21 | None | ◆961
County Ditch No. 4 Diversion Channel:
At the confluence with County Ditch No. 4 | None | ◆950 | Big Stone County (Unincorporated Areas). City of Odessa.
At the divergence from County Ditch No. 4 | None | ◆958
Fish Creek:
At the confluence with Big Stone Lake | ◆971 | ◆972 | Big Stone County (Unincorporated Areas).
Approximately 3,550 feet upstream of State Highway 28 | None | ◆1,108
Five Mile Creek:
At the confluence with Marsh Lake | ◆946 | ◆948 | Big Stone County (Unincorporated Areas).
At the confluence of County Ditch No. 2 | None | ◆1,002
Golf Lake: Entire shoreline | None | ◆1,095 | Big Stone County (Unincorporated Areas). City of Graceville.
Lannon Lake: Entire shoreline | None | ◆1,097 | Big Stone County (Unincorporated Areas) City of Graceville
Little Minnesota River:
At the confluence with Big Stone Lake | ◆971 | ◆972 | Big Stone County (Unincorporated Areas).
Approximately 680 feet upstream of northeastern county boundary | ◆971 | ◆972
Meadow Brook:
At the confluence with Big Stone Lake | ◆971 | ◆972 | Big Stone County (Unincorporated Areas).
Approximately 830 feet upstream of County Highway 6 | None | ◆1,143
Minnesota River:
Approximately 1.8 miles downstream of the confluence with Five Mile Creek | ◆946 | ◆948 | Big Stone County (Unincorporated Areas). City of Odessa. City of Ortonville.
At the confluence of the Little Minnesota River | ◆971 | ◆972
Minnesota River Tailwaters:
At the confluence with the Minnesota River | ◆948 | ◆949 | Big Stone County (Unincorporated Areas).
Approximately 430 feet upstream of U.S. Highway 75 | ◆949 | ◆950
Stony Run:
At the confluence with the Minnesota River | ◆958 | ◆959 | Big Stone County (Unincorporated Areas). City of Odessa.
Approximately 20,520 feet upstream of U.S. Highway 75/State Highway 7 | None | ◆1,017
Unnamed Tributary:
At the confluence with Big Stone Lake | ◆971 | ◆972 | Big Stone County (Unincorporated Areas).
Approximately 18,030 feet upstream of State Highway 7 | None | ◆1,056
West Toqua Lake | None | ◆1,089 | Big Stone County (Unincorporated Areas).
Addresses
Unincorporated Areas of Big Stone County, Minnesota.
Maps are available for inspection at the Planning and Zoning Office, 20 Southeast 2nd Street, Ortonville, Minnesota.
Send comments to The Honorable David Torgerson, Chairman, Big Stone County Board of Commissioners, 20 Southeast 2nd Street, Ortonville, Minnesota 56278.
City of Graceville, Big Stone County, Minnesota.
Maps are available for inspection at 415 Studdart Avenue, Graceville, Minnesota.
Send comments to The Honorable Audrey Rahlien, Mayor, City of Graceville, 415 Studdart Avenue, Graceville, Minnesota 56240.
City of Odessa, Big Stone County, Minnesota.
Maps are available for inspection at 214 Bloomington Avenue South, Odessa, Minnesota.
Send comments to The Honorable Catherine Teske, Mayor, City of Odessa, 214 Bloomington Avenue South, Odessa, Minnesota 56276.
City of Ortonville, Big Stone County, Minnesota.
Maps are available for inspection at the Ortonville City office, 315 Madison Avenue, Ortonville, Minnesota.
Send comments to The Honorable David Dinnel, Mayor, City of Ortonville, 315 Madison Avenue, Ortonville, Minnesota 56278.
Ohio River (Vicinity of the Village of Powhatan Point):
Approximately 1.4 miles downstream of the confluence of Captina Creek | ◆646 | ◆645 | Village of Powhatan Point.
Approximately 0.17 mile upstream of the confluence of Captina Creek | ◆647 | ◆646
Ohio River (Vicinity of the Village of Shadyside):
Approximately 0.15 mile upstream of the confluence of Wegee Creek | ◆654 | ◆653 | Village of Shadyside Belmont County (Unincorporated Areas).
Approximately 0.37 mile upstream of the confluence of Wegee Creek. | ◆654 | ◆653
Ohio River (Vicinity of the City of Martins Ferry):
Approximately 0.25 mile upstream of the Aetnaville Highway | ◆659 | ◆658 | City of Martins Ferry. Belmont County (Unincorporated Areas).
Approximately 0.12 mile upstream of the confluence of Glenn's Run | ◆661 | ◆660
Addresses
Unincorporated Areas of Belmont County, Ohio
Maps are available for inspection at the Belmont County Courthouse, 101 Main Street, St. Clairesville, Ohio 43906.
Send comments to Mr. Mark Thomas, President, County Board of Commissioners, 101 Main Street, Clairesville, OH 43906.
City of Martin's Ferry, Belmont County, Ohio
Maps are available for inspection at City Hall, 35 South 5th Street, Martins Ferry, Ohio.
Send comments to The Honorable Lloyd L. Shrodes, Mayor, City of Martins Ferry, 35 South 5th Street, Martins Ferry, Ohio 43935.
Village of Powhatan Point, Belmont County, Ohio.
Maps are available for inspection at Village Hall, 104 Mellott Street, Powhatan Point, Ohio.
Send comments to The Honorable William Anthony Pratt, Mayor, Village of Powhatan Point, 104 Mellott Street, Powhatan Point, Ohio 43942.
Village of Shadyside, Belmont County, Ohio.
Maps are available for inspection at Village Hall, 50 East 39th Street, Shadyside, Ohio.
Send comments to The Honorable Edward L. Marling, Mayor, Village of Shadyside, 50 East 39th Street, Shadyside, Ohio 43947.
Permars Run:
Approximately 740 feet downstream of Cliff Avenue | None | ◆708 | Village of Steubenville. Jefferson County (Unincorporated Areas).
Approximately 8,095 feet upstream of Cliff Avenue | None | ◆892
Addresses
Unincorporated Areas of Jefferson County, Ohio.
Maps are available for inspection at the Jefferson County Regional Planning Commission, 500 Market Street, Room 614, Steubenville, Ohio.
Send comments to Dr. Thomas E. Graham, President, Board of Commissioners, County Courthouse, 500 Market Street, Steubenville, Ohio 43952.
City of Steubenville, Jefferson County, Ohio.
Maps are available for inspection at 238 South Lake Erie, Steubenville, Ohio.
Send comments to The Honorable Domenick Mucci, Jr. Mayor, City of Steubenville, 300 Market Street, Steubenville, Ohio 43952.

(Catalog of Federal Domestic Assistance No. 83.100, “Flood Insurance.”)
Dated: June 22, 2005.
David I. Maurstad,
Acting Director, Mitigation Division, Emergency Preparedness and Response Directorate.

[FR Doc. 05-12682 Filed 6-27-05; 8:45 am]

BILLING CODE 9110-12-P